DEPARTMENT OF HEALTH AND HUMAN SERVICES

45 CFR Parts 147, 153, 154, 155, 156, 157, and 158

[CMS-9930-F]

RIN 0938-AT12

Patient Protection and Affordable Care Act; HHS Notice of Benefit and Payment Parameters for 2019; Correction

AGENCY: Centers for Medicare & Medicaid Services (CMS), HHS.

ACTION: Final rule; correction.

SUMMARY: This document corrects technical errors that appeared in the final rule published in the Federal Register on April 17, 2018 entitled “Patient Protection and Affordable Care Act; HHS Notice of Benefit and Payment Parameters for 2019.”

DATES: Effective Date: This correcting document is effective June 18, 2018.

FOR FURTHER INFORMATION CONTACT: Lindsey Murtagh, (301) 492-4106, Rachel Arguello, (301) 492-4263, or Abigail Walker, (410) 786-1725, for general information.

Krutika Amin, (301) 492-5153, for matters related to risk adjustment.

SUPPLEMENTARY INFORMATION:

I. Background

In FR Doc. 2018-07355 of April 17, 2018 (83 FR 16930), the final rule entitled “Patient Protection and Affordable Care Act; HHS Notice of Benefit and Payment Parameters for 2019”, there were a number of technical errors in the HHS risk adjustment model factors for adults and infants that are identified and corrected in the Correction of Errors section below. There was also an error in the Collection of Information section. The effective date of the final rule is June 18, 2018.

II. Summary of Errors

The 2019 benefit year final HHS risk adjustment model factors included in the HHS Notice of Benefit and Payment Parameters for 2019 final rule include a few errors in the adult risk adjustment model factors (Table 2) and the infant risk adjustment model factors (Table 5). This correction notice to the final rule amends the final adult and infant risk adjustment model factors for the 2019 benefit year. We have also made the final risk adjustment model factors for the 2019 benefit year for the adult, child and infant models, including corrections to the adult and infant model factors, available at https://www.cms.gov/CCIIO/Resources/Regulations-and-Guidance/Downloads/2019-Final-HHS-RA-Model-Coefficients.pdf and https://www.cms.gov/CCIIO/Resources/Regulations-and-Guidance/Downloads/2019-Final-HHS-RA-Model-Coefficients-X.xlsx.

On page 17043 of the Collection of Information section, in our discussion regarding the submission of PRA related comments, the incorrect delivery information was included.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

This document merely corrects technical and typographic errors in the Patient Protection and Affordable Care Act; HHS Notice of Benefit and Payment Parameters for 2019 final rule that was published on April 17, 2018 and will become effective on June 18, 2018. The changes are not substantive changes to the standards set forth in the final rule. Therefore, we believe that undertaking further notice and comment procedures to incorporate these corrections is unnecessary. For the reasons stated previously, we find there is good cause to waive notice and comment procedures.

IV. Correction of Errors

In FR Doc. 2018-07355 of April 17, 2018 (83 FR 16930), make the following corrections:

1. On page 16945, the final adult risk adjustment model factors for the 2019 benefit year in Table 2 are corrected for four HCCs labeled as HCC029, HCC034, HCC035 and HCC036 to read as follows.

HCC or RXC No. | Factor | Platinum | Gold | Silver | Bronze | Catastrophic
HCC029 | Amyloidosis, Porphyria, and Other Metabolic Disorders | 2.380 | 2.280 | 2.200 | 2.137 | 2.132
HCC034 | Liver Transplant Status/Complications | 10.515 | 10.418 | 10.353 | 10.334 | 10.331
HCC035 | End-Stage Liver Disease | 5.696 | 5.491 | 5.349 | 5.341 | 5.339
HCC036 | Cirrhosis of Liver | 1.995 | 1.868 | 1.780 | 1.725 | 1.720

2. On page 16950, the final infant risk adjustment model factors for the 2019 benefit year in Table 5 are corrected for the Age1 * Severity Level 5 (Highest) group to read as follows.

Group | Platinum | Gold | Silver | Bronze | Catastrophic
Age1 * Severity Level 5 (Highest) | 54.522 | 53.855 | 53.298 | 53.200 | 53.192

3. On page 16951, the final infant risk adjustment model factors for the 2019 benefit year in Table 5 are corrected for the Age1 * Severity Level 4, Age1 * Severity Level 3, Age1 * Severity Level 2, Age1 * Severity Level 1 (Lowest), Age 0 Male, and Age 1 Male groups to read as follows.

Group | Platinum | Gold | Silver | Bronze | Catastrophic
Age1 * Severity Level 4 | 9.637 | 9.153 | 8.751 | 8.495 | 8.473
Age1 * Severity Level 3 | 3.058 | 2.786 | 2.511 | 2.263 | 2.245
Age1 * Severity Level 2 | 1.960 | 1.747 | 1.509 | 1.246 | 1.226
Age1 * Severity Level 1 (Lowest) | 0.520 | 0.443 | 0.330 | 0.252 | 0.247
Age 0 Male | 0.627 | 0.584 | 0.561 | 0.502 | 0.495
Age 1 Male | 0.106 | 0.090 | 0.077 | 0.052 | 0.050

4. On page 17043, in the collection of information section, “We invite public comments on these information collection requirements. If you wish to comment, please submit your comments electronically as specified in the ADDRESSES section of this final rule and identify the rule (CMS-9930-F), the ICR's CFR citation, CMS ID number, and OMB control number.” is corrected to read,

“We invite public comments on these information collection requirements. If you wish to comment, please identify the rule (CMS-9930-F) the ICR's CFR citation, CMS ID number, and OMB control number. Comments and recommendations must be received by the OMB desk officer via one of the following transmissions: OMB, Office of Information and Regulatory Affairs; Attention: CMS Desk Officer; Fax: (202) 395-5806 OR Email: OIRA_submission@omb.eop.gov.

To obtain copies of a supporting statement and any related forms for the collection(s) summarized in this rule, you may make your request using one of following:

1. Access CMS' website address at website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.”

Dated: May 7, 2018.
Ann C. Agnew,
Executive Secretary to the Department, Department of Health and Human Services.

[FR Doc. 2018-10089 Filed 5-10-18; 8:45 am]

BILLING CODE 4120-01-P